INTERNATIONAL TRADE COMMISSION

[Inv. No. 337-TA-575]

In the Matter of Certain Lighters; Notice of a Commission Determination Not To Review an Initial Determination Granting Complainants' Motion for Summary Determination That a Domestic Industry Exists and That There Is a Violation of Section 337; Schedule for Filing Written Submissions on Remedy, Public Interest, and Bonding

AGENCY: U.S. International Trade Commission.

ACTION: Notice.

SUMMARY: Notice is hereby given that the U.S. International Trade Commission has determined not to review an initial determination (“ID”) of the presiding administrative law judge (“ALJ”) in the above-captioned investigation granting complainants” motion for summary determination that a domestic industry exists and that there is a violation of section 337. The Commission has also issued a briefing schedule for submissions on remedy, the public interest, and bonding.

FOR FURTHER INFORMATION CONTACT: Michael K. Haldenstein, Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 20, 2006, based on a complaint, as supplemented, filed by Zippo Manufacturing Company, Inc., of Bradford, Pennsylvania, and ZippMark, Inc. of Wilmington, Delaware (collectively “Zippo”), alleging violations of section 337 of the Tariff Act of 1930 in the importation into the United States, the sale for importation, and the sale within the United States after importation of certain lighters by reason of infringement of United States Trademark Registration No. 2,606,241 (“the ‘241 mark”). 71 FR 35450 (June 20, 2006). The complaint further alleged that an industry in the United States exists or is in the process of being established as required by subsection(a)(2) of section 337. Complainants requested that the Commission issue a general exclusion order and cease and desist orders. The ALJ set July 20, 2007, as the target date for completion of the investigation.

The complaint named seven respondents: Tung Fong International Promotion Co., Ltd. of Hong Kong; Wenzhou Star Smoking Set Co., Ltd. of China; Taizhou Rongshi Lighter Development Co., Ltd. of China; Wenzhou Tailier Smoking Set Co., Ltd. of China; Vista Wholesale of Greencastle, Indiana; beWild.com of Bellmore, New York; and Kalan LP of Landsdowne, Pennsylvania. Respondents Kalan and Wenzhou Star Smoking Set Company were terminated from the investigation on the basis of settlement agreements. The remaining five respondents were found to be in default by the ALJ and the Commission did not review that determination.

On November 7, 2006, complainants filed a motion seeking summary determination with respect to the domestic industry requirement and violation of section 337. Complainants also requested that the ALJ recommend a general exclusion order and a 100 percent bond during the Presidential review period. The Commission investigative attorney supported the motion for summary determination and the requested recommendation on remedy and bonding. No respondents responded to the motion.

On February 21, 2007, the ALJ issued an ID finding the domestic industry requirement satisfied, finding a violation of section 337, and containing a recommended determination on remedy and bonding. The ALJ found a violation of section 337 based on his conclusion that there are no genuine issues of material fact that respondents' accused products infringe the ‘241 mark and that a domestic industry exists as required by 19 U.S.C. 1337(a)(2). He recommended issuance of a general exclusion order and that the amount of bond for temporary importation during the Presidential review period be set at 100 percent of the entered value of the articles concerned. No petitions for review were filed and the Commission has determined not to review the ID.

In connection with the final disposition of this investigation, the Commission may issue an order that results in the exclusion of the subject articles from entry into the United States. Accordingly, the Commission is interested in receiving written submissions that address the form of remedy, if any, that should be ordered. If a party seeks exclusion of an article from entry into the United States for purposes other than entry for consumption, the party should so indicate and provide information establishing that activities involving other types of entry either are adversely affecting it or likely to do so. For background, see In the Matter of Certain Devices for Connecting Computers via Telephone Lines, Inv. No. 337-TA-360, USITC Pub. No. 2843 (December 1994) (Commission Opinion). When the Commission contemplates some form of remedy, it must consider the effects of that remedy upon the public interest. The factors the Commission will consider include the effect that an exclusion order and/or cease and desist orders would have on (1) the public health and welfare, (2) competitive conditions in the U.S. economy, (3) U.S. production of articles that are like or directly competitive with those that are subject to investigation, and (4) U.S. consumers. The Commission is therefore interested in receiving written submissions that address the aforementioned public interest factors in the context of this investigation. When the Commission orders some form of remedy, the U.S. Trade Representative, as delegated by the President, has 60 days to approve or disapprove the Commission's action. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. Such submissions should be no more than twenty-five (25) pages and should address the recommended determination by the ALJ on remedy and bonding. The complainants and the Commission investigative attorney are also requested to submit proposed remedial orders for the Commission's consideration. Complainants are also requested to state the HTSUS numbers under which the accused products are imported. The written submissions and proposed remedial orders must be filed no later than close of business on March 29, 2007. Reply submissions must be filed no later than the close of business on April 5, 2007. No further submissions on these issues will be permitted unless otherwise ordered by the Commission. Persons filing written submissions must file the original document and 12 true copies thereof on or before the deadlines stated above with the Office of the Secretary. Any person desiring to submit a document to the Commission in confidence must request confidential treatment unless the information has already been granted such treatment during the proceedings. All such requests should be directed to the Secretary of the Commission and must include a full statement of the reasons why the Commission should grant such treatment. See 19 CFR 201.6. Documents for which confidential treatment by the Commission is sought will be treated accordingly. All nonconfidential written submissions will be available for public inspection at the Office of the Secretary.

The authority for the Commission's determination is contained in section 337 of the Tariff Act of 1930, as amended, 19 U.S.C. 1337, and in sections 210.42-46 of the Commission's Rules of Practice and Procedure, 19 CFR 210.42-46.

By order of the Commission.
Issued: March 15, 2007.
Marilyn R. Abbott,
Secretary to the Commission.

[FR Doc. E7-5175 Filed 3-21-07; 8:45 am]

BILLING CODE 7020-02-P